DEPARTMENT OF TRANSPORTATION

Federal Aviation Administration

Public Notice for Waiver of Aeronautical Land-Use Assurance; Jackson County-Reynolds Airport; Jackson, Michigan

AGENCY: Federal Aviation Administration, DOT.

ACTION: Notice of intent of waiver with respect to land.

SUMMARY: The Federal Aviation Administration (FAA) is considering a proposal to change a portion of airport land from aeronautical use to non-aeronautical use and to authorize the sale of the airport property. The proposal consists of four parcels of land; one 3.70 acre parcel designated as Right-of-Way and three other parcels of land designated as Parcel A (1.16 acres), Parcel B (0.46 acres), and Parcel C (0.01 acres) together totaling approximately 1.63 acres for a roadway easement. Current use and present condition is vacant grassland. There are no impacts to the airport by allowing the airport to dispose of the property.

The land was acquired under FAA Project No. 9-20-046-0804-26. Approval does not constitute a commitment by the FAA to financially assist in the sale of the subject airport property nor a determination that all measures covered by the program are eligible for Airport Improvement Program funding from the FAA. The disposition of proceeds from the sale of the airport property will be in accordance with the FAA's Policy and Procedures Concerning the Use of Airport Revenue, published in the Federal Register on February 16, 1999. Together this proposal is for approximately 5.33 acres in total.

In accordance with section 47107(h) of title 49, United States Code, this notice is required to be published in the Federal Register 30 days before modifying the land-use assurance that requires the property to be used for an aeronautical purpose. The proposed land will be sold in fee (Parcel Right-of-Way) to allow for a new roadway extension to be built. Parcels A, B, and C will be sold in fee as a permanent roadway easement to allow for operational enhancements for Boardman Road. Boardman Road runs approximately parallel to I-94 between Maynard Road and Airport Road, which will be extended with the sale of the stated parcels. This proposed new extension will have the effect of reducing vehicle traffic along the portion of Airport Road that transverses through the Runway Safety Area (RSA) of Runway 24, in turn increasing safety for the airport. The proceeds from the sale of the land will be used for airport improvements and operation expenses at Jackson County-Reynolds Airport.

DATES: Comments must be received on or before January 25, 2001.

FOR FURTHER INFORMATION CONTACT: Mr. Gary Migut, Federal Aviation Administration, Great Lakes Region, Detroit Airports District Office, DET ADO-650.2, Willow Run Airport, East, 8820 Beck Road, Belleville, Michigan 48111, (734) 487-7278. Documents reflecting this FAA action may be reviewed at this same location or at Jackson County-Reynolds Airport, Jackson, Michigan.

SUPPLEMENTARY INFORMATION: Following are legal descriptions of the property: Right-of-Way Parcel. All that part of parcel of land located in the North one-half of the Southeast one-quarter of Section 29, T.2S., R.1W., Blackman Township, Jackson County, Michigan, being described as follows: A parcel of land 66.00 feet in width, beginning on the Westerly right of way line of Maynard Road and continuing Westerly to the Easterly right of way line of Airport Road with the following more particularly described centerline: Commencing at a point on the Westerly right of way line of Maynard Road, which point is located 260.00 feet Southerly on the East line of Section 29 and 33.00 feet Westerly of the East one-quarter corner of said Section 29, and the true POINT OF BEGINNING; Thence South 89 Decrees 30 Minutes 24 Seconds West, a distance of 331.77 feet to a point; Thence around a curve to the right through a central angle of 02 Degrees 41 Minutes 20 Seconds, an arc distance of 230.94 feet, a radius of 4921.26 feet and a chord bearing of North 89 Degrees 08 Minutes 56 Seconds West with a distance of 230.93 feet to a point; Thence North 87 Degrees 48 Minutes 16 Seconds West, a distance of 790.19 feet to a point; Thence around a curve to the left through a central angle of 30 Degrees 04 Minutes 54 Seconds, an arc distance of 1179.92 feet, a radius of 2247.38 feet and a chord bearing of South 77 Degrees 09 Minutes 17 Seconds West with a distance of 1166.42 feet to a point; Thence South 62 Degrees 06 Minutes 50 Seconds West, to a point on the Easterly right of way line of Airport Road and the POINT OF ENDING. Excepting that portion lying within the M.D.O.T. Highway right of way for the U.S. 12 by-pass (Interstate 94). Containing 3.70 acres, more or less.

Parcel A_A 20.00 foot wide easement beginning on the Westerly right of way line of Maynard Road and continuing Westerly to the Easterly right of way line of Airport Road, more particularly described as follows: a parcel of land 20.00 feet in width, who's Northerly line is 33.00 feet South of the following described in centerline of Boardman Road; Commencing at a point on the Westerly right of way line of Maynard Road which point is located 260.00 feet Southerly on the East line of Section 29 and 33.00 feet Westerly of the East one-quarter corner of said Section 29, and the true POINT OF BEGINNING; Thence South 89 Degrees 30 Minutes 24 Seconds West, a distance of 331.77 feet to a point; Thence around a curve to the right through a central angle of 02 Degrees 41 Minute 20 Seconds, an arc distance of 230.94 feet, a radius of 4921.26 feet and a chord bearing of North 89 Degrees 08 Minutes 56 Seconds West with a distance of 230.93 feet to a point; Thence North 87 Degrees 48 Minutes 16 Seconds West, a distance of 790.19 feet to a point; Thence around a curve to the left through a central angle of 30 Degrees 04 Minutes 54 Seconds, an arc distance of 1179.92 feet, a radius of 2247.38 feet and a chord bearing of South 77 Degrees 09 Minutes 17 Seconds West with a distance of 1166.42 feet to a point; Thence South 62 Degrees 06 Minutes 50 Seconds West, to a point on the Easterly right of way line of Airport Road and the POINT OF ENDING. Containing 1.16 acres, more or less.

Parcel B—A 20.00 foot wide easement beginning on the Westerly right of way line of Maynard Road and continuing Westerly to the Easterly right of way line of Airport Road, more particularly described as follows: A parcel of land 20.00 feet in width, who's Southerly line is 33.00 feet North of the following described centerline of Boardman Road; Commencing at a point on the Westerly right of way line of Maynard Road which point is located 260.00 feet Southerly on the East line of Section 29 and 33.00 feet Westerly of the East one-quarter corner of said Section 29, and the true POINT OF BEGINNING; Thence South 89 Degrees 3 Minutes 24 Seconds West, a distance of 331.77 feet to a point; Thence around a curve to the right through a central angle of 02 Degrees 41 Minutes 20 Seconds, an arc distance of 230.94 feet, a radius of 4921.26 feet and a chord bearing of North 89 Degrees 08 Minutes 56 Seconds West with a distance of 230.93 feet to a point; Thence North 87 Degrees 48 Minutes 16 Seconds West, a distance of 790.19 feet to a point; Thence around a curve to the left through a central angle of 30 Degrees 04 Minutes 54 Seconds, an arc distance of 1179.92 feet, a radius of 2247.38 feet and a chord bearing of South 77 Degrees 09 Minutes 17 Seconds West with a distance of 1166.42 feet to a point; Thence South 62 Degrees 06 Minutes 50 Seconds West, to a point on the Easterly right of way line of Airport Road and the POINT OF ENDING. Excepting that portion lying within the M.D.O.T. highway right of way for U.S. 12 by-pass (Interstate 94). Containing 0.46 acres, more or less.

Parcel C—An easement described as follows: Commencing at a point on the Westerly right of way line of Maynard Road which is located 293.00 feet Southerly on the East line of Section 29 and 33.00 feet Westerly of the East one-quarter Corner of said Section 29, and the true POINT OF BEGINNING; Thence South 89 Degrees 30 Minutes 24 Seconds West, a distance of 20.00 feet to a point; Thence Southeasterly to a point on the Westerly right of way line of Maynard Road 20.00 feet Southerly of the place of beginning of this description; Thence Northerly 20.00 feet, to the true POINT OF BEGINNING of this description. Containing 0.01 acres, more or less.

Issued in Belleville, Michigan, November 24, 2000.
Irene Porter,
Manager, Detroit Airports District Office, Great Lakes Region.

[FR Doc. 00-32522 Filed 12-22-00; 8:45 am]

BILLING CODE 4910-13-M